DEPARTMENT OF ENERGY

Federal Energy Regulatory Commission

Notice of Environmental Report Preparation and Post-Certificate Environmental Compliance Training Seminars

July 15, 2004.

The Office of Energy Projects (OEP) staff will conduct seven sessions of its Environmental Report Preparation Seminar, as well as seven sessions of the Post-Certificate Environmental Compliance Seminar, throughout 2004 and 2005. The training seminars will be delivered by FERC staff and consultants with significant industry experience.

Details on the content of both seminars and the scheduled training locations are provided below. For more information about the courses visit the FERC Web site at http://www.ferc.gov/industries/gas/enviro/seminars.asp and to register for the courses, visit the training Web site at http://www.ferc-envtraining.com or call (650) 712-6610. The latter site will have details on the location of each session. Registration for each course will be limited; so, although there is no charge for the course, all participants must register in advance.

Environmental Report Preparation (1-Day Seminar)

This one-day seminar will discuss the environmental documentation required for certificate applications prepared under subpart A of 18 CFR part 157 and sections 7(a), 7(b), and 7(c) of the Natural Gas Act (NGA). The seminar will assist each trainee in preparing the environmental report required for filing applications with FERC for project construction or abandonment. The presentation will address the information necessary to meet the FERC's minimum filing requirements.

The seminar will also include a general background discussion of the FERC's environmental process as well as efforts to enhance landowner and other stakeholder involvement during the pre-filing process, which potentially includes beginning the National Environmental Policy Act process during the development stage of a project. Participants will receive a certificate of attendance at the end of the session and an updated copy of the Guidance Manual for Environmental Report Preparation.

The Environmental Report Preparation Seminars will be held at the locations and dates shown on the attached table. More detailed information on these courses will be posted on the registration Web site referenced above.

Post-Certificate Environmental Compliance (2-Day Seminar)

This two-day seminar will cover the FERC's post-certificate regulatory process and construction and restoration requirements. The seminar will provide each trainee with knowledge of the basic environmental requirements of most FERC certificates and the Upland Erosion Control, Revegetation, and Maintenance Plan (Plan) and the Wetland and Waterbody Construction and Mitigation Procedures (Procedures).

In the morning before each day of the seminar begins, we will also offer an Early Bird session on Pipeline Construction (Day 1) and Preparing for a FERC Site Visit (Day 2) for those participants who feel they would benefit. Participants must register for these Early Bird sessions when registering for the seminar. The Pipeline Construction session will be for those attendees who are inexperienced in basic pipeline construction practices. The session on Preparing for a FERC Site Visit will be of special interest to those individuals interested in knowing what to expect and tips for getting the most out of a FERC site visit.

Registered participants will receive a certificate of attendance at the end of the session and an updated copy of the Natural Gas Pipeline Environmental Compliance Workbook.

The Post-Certificate Environmental Compliance Seminars will be held at the locations and dates shown on the attached table. More detailed information on these courses will be posted on the registration Web site referenced above.

Magalie R. Salas,
Secretary.

Schedule of Training Seminars

(FY 2004)

Dates | Location | Seminar: (Day 1) | Seminar: (Days 2 & 3)
August 17, 18-19 | Houston | ER Preparation | Compliance.
September 28, 29-30 | Denver | ER Preparation | Compliance.
October 27, 28-29 | Houston | ER Preparation | Compliance.

(FY 2005)

Dates | Location | Seminar: (Day 1) | Seminar: (Days 2 & 3)
January 25, 26-27 | Las Vegas | ER Preparation | Compliance.
March 15, 16-17 | Houston | ER Preparation | Compliance.
May 24, 25-26 | Atlanta | ER Preparation | Compliance.
September 13, 14-15 | St. Louis | ER Preparation | Compliance.

[FR Doc. E4-1629 Filed 7-21-04; 8:45 am]

BILLING CODE 6717-01-P